DEPARTMENT OF HOMELAND SECURITY

Coast Guard

33 CFR Part 165

[Docket No. USCG-2021-0418]

Safety Zones; Northern California and Lake Tahoe Area Annual Fourth of July Fireworks Events

AGENCY: Coast Guard, DHS.

ACTION: Notice of enforcement of regulation.

SUMMARY: The Coast Guard will enforce numerous safety zones within the Captain of the Port, San Francisco area of responsibility during the dates and times specified below. This action is necessary to protect personnel, vessels, and the marine environment from the dangers associated with pyrotechnics. During the enforcement period, unauthorized persons or vessels are prohibited from entering into, transiting through, or remaining in the regulated areas, unless authorized by the Patrol Commander (PATCOM).

DATES: The regulations in 33 CFR 165.1191 will be enforced for the locations identified in Items 3, 4, 7, 12, 14, and 16 of Table 1 to § 165.1191 during the dates and times identified in the SUPPLEMENTARY INFORMATION section below.

FOR FURTHER INFORMATION CONTACT: If you have questions on this notice, call or email Lieutenant Anthony Solares, Waterways Management, U.S. Coast Guard; telephone (415) 399-3585, email SFWaterways@uscg.mil.

SUPPLEMENTARY INFORMATION: The Coast Guard will enforce the safety zones established in 33 CFR 165.1191, Table 1, Item numbers 3, 4, 7, 12, 14, and 16 during the dates, times, and locations indicated in the table below. The dates, times, and locations will also be published in the Local Notice to Mariners at least 20 days prior to the date of each event.

3. Fourth of July Fireworks, City of Eureka
Sponsor | City of Eureka, CA.
Event Description | Fireworks Display.
Date | July 4, 2021.
Time | From noon on July 3, 2021 to 9:30 p.m. on July 4, 2021, the barge will load, transit, and stage at the display location. From 9:30 p.m. until the conclusion of the fireworks display at approximately 10:55 p.m. on July 4, 2021, the safety zone will increase in size.
Location | The barge will load at Schneider Dock and transit to the display location in Humboldt Bay, CA, at approximate position 40°48.49′ N, 124°10.11′ W.
Regulated Area | 100-foot radius around the fireworks launch barge during the loading of pyrotechnics aboard the fireworks barge and during the transit of the fireworks barge from the loading location to the display location. Increases to a 1,000-foot radius upon commencement of the fireworks display.
4. Fourth of July Fireworks, Crescent City
Sponsor | Crescent City, CA.
Event Description | Fireworks Display.
Date | July 4, 2021.
Time | From 9:30 p.m. until the conclusion of the fireworks display, at approximately 10:20 p.m. on July 4, 2021.
Location | The West Jetty of Crescent City Harbor, Crescent City, CA, at approximate position 41°44′04″ N, 124°11′59″ W.
Regulated Area | Crescent City Harbor in the navigable waters within a 700-foot radius of the launch platform located on the West Jetty.
7. San Francisco Independence Day Fireworks
Sponsor | The City of San Francisco
Event Description | Fireworks Display.
Date | July 4, 2021.
Time | From 10 a.m. on July 2, 2021, to 9:45 p.m. on July 4, 2021 the barges will load, transit, and stage at the display location. From 9:45 p.m. until the conclusion of the fireworks display at approximately 11:10 p.m. on July 4, 2021, the safety zone will increase in size.
Location | The barges will load at Pier 50 in San Francisco and transit to the display locations in the San Francisco Bay in approximate position 37°48′39″ N, 122°25′37″ W and 37°48′49″ N, 122°24′46″ W, San Francisco, CA.
Regulated Area | 100-foot radius around each fireworks barge during the loading, transit, setup, and until the commencement of the scheduled display. Increases to a 1,000-foot radius upon commencement of the fireworks display.
12. Fourth of July Fireworks, City of Antioch
Sponsor | City of Antioch
Event Description | Fireworks Display.
Date | July 4, 2021.
Time | From 9 a.m. to 9:20 p.m. on July 4, 2021, the barge will load, transit, and stage at the display location. From 9:20 p.m. until the conclusion of the fireworks display at approximately 10:05 p.m. on July 4, 2021, the safety zone will increase in size.
Location | The barge will load at Fulton Ship Yard in Antioch, CA. and transit to the display location in the San Joaquin River in approximate position 38°01′9.0″.027″ N, 121°48'47.6″ W, Antioch, CA.
Regulated Area | 100-foot radius around each fireworks barge during the loading, transit, setup, and until the commencement of the scheduled display. Increases to a 1,000-foot radius upon commencement of the fireworks display.
14. Delta Independence Day Celebration Fireworks
Sponsor | Various Sponsors.
Event Description | Fireworks Display.
Date | July 4, 2021
Time | From 8 a.m. on July 3, 2021 until 9:30 p.m. on July 4, 2021, the barge will load, transit, and stage at the display location. From 9:30 p.m. until the conclusion of the fireworks display at approximately 10:20 p.m. on July 4, 2021, the safety zone will increase in size.
Location | The barge will load at the Dutra Corp Yard in Rio Vista, CA, and transit to the display location in the San Joaquin River, near Mandeville Island, CA, at approximate position 38°03′20.5″ N, 121°32′03″ W.
Regulated Area | 100-foot radius around the fireworks launch barge during the loading of pyrotechnics aboard the fireworks barge and during the transit of the fireworks barge from the loading location to the display location. Increases to a 1,000-foot radius upon commencement of the fireworks display.
16. Fourth of July Fireworks, Glenbrook NV
Sponsor | Various Sponsors.
Event Description | Fireworks Display.
Date | July 4, 2021
Time | From 7 a.m. to 9 p.m. on July 4, 2021, the barge will load, transit, and stage at the display location. From 9 p.m. until the conclusion of the fireworks display at approximately 10:25 p.m. on July 4, 2021, the safety zone will increase in size.
Location | The barge will load in Glenbrook, NV and transit to the display location off-shore Glenbrook Beach, NV in approximate position 39°05′18.40″ N, 119°56′34.67″ W.
Regulated Area | 100-foot radius around the fireworks launch barge during the loading of pyrotechnics aboard the fireworks barge and the transit of the fireworks barge from the loading location to the display location. Increases to a 1,000-foot radius upon commencement of the fireworks display.

Under the provisions of 33 CFR 165.1191, unauthorized persons or vessels are prohibited from anchoring, blocking, loitering, or impeding the through transit of participants or official patrol vessels in the safety zone during all applicable effective dates and times. All vessels in the safety zone during the effective dates and times are subject to movement control by the PATCOM or other Official Patrol defined as a Federal, state, or local law enforcement agency on scene to assist the Coast Guard in enforcing the safety zones. During the enforcement period, if you are the operator of a vessel in one of the safety zones you must comply with directions from the Patrol Commander or other Official Patrol.

In addition to this notice of enforcement in the Federal Register, the Coast Guard plans to provide notification of this enforcement period via the Local Notice to Mariners.

If the Captain of the Port determines that the regulated area need not be enforced for the full duration stated in this notice, a Broadcast Notice to Mariners may be used to grant general permission to enter the regulated area.

Dated: June 21, 2021.
Jordan M. Baldueza,
Captain, U.S. Coast Guard, Alternate Captain of the Port, San Francisco.

[FR Doc. 2021-13611 Filed 6-24-21; 8:45 am]

BILLING CODE 9110-04-P